COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds products and a service to the Procurement List that will be furnished by nonprofit agencies employing persons who are blind or have other severe disabilities, and deletes a service from the Procurement List previously furnished by such agency.

DATES: Date added to and deleted from the Procurement List: August 12, 2018.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/27/2018 (83 FR 82) and 6/4/2018 (83 FR 107); the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s): 8105-00-NIB-1437—Envelopes, Packing List, 4-½″ x 5-½″

Mandatory Source of Supply: West Texas Lighthouse for the Blind, San Angelo, TX

Mandatory for: Total Government Requirement

Contracting Activity: Federal Acquisition Service, GSA/FSS OFC SUP CTR—Paper Products

Distribution: A-List

NSN(s)—Product Name(s): 6230-00-NIB-0066—Work Light, LED, Articulating Arm, Red and Black

Mandatory Source of Supply: Industries for the Blind, Inc., West Allis, WI

Mandatory for: Broad Government Requirement

Contracting Activity: Defense Logistics Agency Troop Support

Distribution: B-List

Service

Service Type: Custodial Service

Mandatory for: U.S. Customs and Border Protection, All CBP Facilities, U.S. Virgin Islands, VI, 5500 Veterans Drive, St. Thomas, VI

Mandatory Source of Supply: The Corporate Source, Inc., New York, NY

Contracting Activity: U.S. Customs and Border Protection, Border Enforcement CTR DIV

Deletion

On 6/15/2018 (83 FR 116), the Committee for Purchase From People Who Are Blind or Severely Disabled published notice of proposed deletion from the Procurement List.

After consideration of the relevant matter presented, the Committee has determined that the service listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to provide the service to the Government.

3. There are no known regulatory alternatives which would accomplish the objectives of the Javits-Wagner-O'Day Act (41 U.S.C. 8501-8506) in connection with the service deleted from the Procurement List.

End of Certification

Accordingly, the following service is deleted from the Procurement List:

Service

Service Type: Microfiche/Microfilm Reproduction Service

Mandatory for: Great Plains Area: Department of Housing and Urban Development (HUD) Chicago, IL

Mandatory Source of Supply: Lester and Rosalie Anixter Center, Chicago, IL

Contracting Activity: Housing and Urban Development

Amy B. Jensen,
Director, Business Operations.

[FR Doc. 2018-15034 Filed 7-12-18; 8:45 am]

BILLING CODE 6353-01-P